DEPARTMENT OF COMMERCE

National Oceanic and Atmospheric Administration

Proposed Information Collection; Comment Request; Alaska Interagency Electronic Reporting System

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 17, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Patsy A. Bearden, (907) 586-7008 or patsy.bearden@noaa.gov.

SUPPLEMENTARY INFORMATION:

I. Abstract

The Interagency Electronic Reporting System (IERS) and its data entry component, eLandings, was implemented for use in the Bering Sea and Aleutian Islands (BSAI) Crab Rationalization Program (CR) crab fisheries, commercial harvest and production of groundfish (including rockfish), and Pacific halibut. Once implementation is complete, eLandings will allow processors and others to make all three species' landings reports with a single reporting system to NMFS, the International Pacific Halibut Commission (IPHC), and Alaska Department of Fish and Game (ADF&G).

Using eLandings removes reporting duplications, and will make recordkeeping and reporting simpler. Additional benefits of the eLandings system include:

• Immediate verification of permits and vessel identification;

• Timely catch reports for management agency use;

• Options for processors to import or export catch and production information; and

• Significant reduction in data entry by management agencies and processors.

II. Method of Collection

Methods of submittal include e-mail of electronic forms, and mail and facsimile transmission of paper forms. Clients with no Web access, such as the at-sea fleet, will use eLandings client desktop software and submit landing reports as e-mail attachments. The vessels use satellite communications which may or may not include telephone, Internet, text messaging, e-mail, and e-mail attachment capabilities.

III. Data

OMB Control Number: 0648-0515.

Form Number: None.

Type of Review: Regular submission.

Affected Public: Individuals or households; business or other for-profit organizations.

Estimated Number of Respondents: 1,277.

Estimated Time per Response: 15 minutes for IERS processor registration; 35 minutes for eLandings landing report; 35 minutes for backup manual eLandings report; and 15 minutes for catcher/processor or mothership production report.

Estimated Total Annual Burden Hours: 57,762.

Estimated Total Annual Cost to Public: $14,931 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 12, 2008.
Gwellnar Banks,
Management Analyst, Office of the Chief Information Officer.

[FR Doc. E8-29922 Filed 12-16-08; 8:45 am]

BILLING CODE 3510-22-P